DEPARTMENT OF THE INTERIOR

Bureau of Land Management

[LLWY930000.L10100000.PH0000]

Notice of Availability of the BLM Draft Presumed To Conform List of Actions Under General Conformity—Upper Green River Basin, Wyoming

AGENCY: Bureau of Land Management, Interior.

ACTION: Notice.

SUMMARY: In accordance with the Clean Air Act, Clean Air Act Amendments of 1990, and U.S. Environmental Protection Agency's (EPA) regulations, the Bureau of Land Management (BLM) has developed a Draft Presumed to Conform List of Actions under General Conformity for the Upper Green River Basin (UGRB) ozone nonattainment area and by this notice is announcing the opening of the comment period.

DATES: To ensure comments will be considered, the BLM must receive comments on the Draft Presumed to Conform List on or before February 13, 2017. The BLM will announce future meetings or hearings and any other public involvement activities at least 15 days in advance through media releases.

ADDRESSES: Comments may be submitted by any of the following methods:

• Web site: http://bit.ly/WYPtCList.

• Email: BLM_WY_PTCList_comments@blm.gov.

Copies of the Draft Presumed to Conform List are available at the BLM Wyoming State Office, 5353 Yellowstone Road, Cheyenne, WY 82009 and online at the above Web site.

FOR FURTHER INFORMATION CONTACT: Charis Tuers, Air Resource Specialist; Telephone: 307-775-6099; address: BLM Wyoming State Office, 5353 Yellowstone Road, Cheyenne, WY 82009, or P.O. Box 1828, Cheyenne, WY 82003; or email: BLM_WY_PTCList_comments@blm.gov. Persons who use a telecommunications device for the deaf (TDD) may call the Federal Relay Service at 1-800-877-8339 to contact the above individual during normal business hours. The Service is available 24 hours a day, seven days a week, to leave a message or question with the above individual. You will receive a reply during normal business hours.

SUPPLEMENTARY INFORMATION: The Clean Air Act section 176(c), 42 U.S.C. 7506(c) and Clean Air Act Amendments of 1990 ¹ require that all Federal actions conform to an applicable State Implementation Plan (SIP) for the criteria pollutants and precursors identified in 40 CFR 93.153(b)(1) and (b)(2) and in the National Ambient Air Quality Standards (NAAQS) under 40 CFR 50.4-50.12.² The criteria pollutants for which there are established NAAQS include: ozone (O3), carbon monoxide (CO), nitrogen dioxide (NO2), lead (Pb), sulfur dioxide (SO2),³ particulate matter consisting of particles with a diameter less than or equal to 2.5 micrometers (PM2.5), and particulate matter consisting of particles with a diameter greater than 2.5 but less than or equal to 10 micrometers (PM10).⁴ A SIP is the written plan submitted to the EPA detailing a state's strategy to control air emissions to meet and maintain the NAAQS for these pollutants, and thus to comply with the Clean Air Act.⁵

¹ The Clean Air Act Title 1 Air Pollution Prevention and Control, Part D. Subpart 1, Section 176 Limitation on Certain Federal Assistance.

² The NAAQS established by the EPA represent maximum concentration standards for criteria pollutants to protect human health (primary standards) and to protect property and aesthetics (secondary standards).

³ The BLM calculated SOX is considered equal to SO2.

⁴ PM2.5 is a subset of PM10 with separate standards for each.

⁵ 40 CFR 93.153(f).

The U.S. Environmental Protection Agency (EPA) has established criteria and procedures for Federal agencies to use in demonstrating conformity with an applicable SIP. The criteria and procedures can be found at 40 CFR 93.150 et seq. (General Conformity Rule).

The General Conformity Rule allows Federal agencies to develop a list of actions that are presumed to conform to a SIP with respect to the criteria pollutants and their precursors that are identified in 40 CFR 93.153(b)(1) and (b)(2). Addressing the need for efficiency and streamlining, the EPA states that the provisions allowing Federal agencies to establish categories of actions that are presumed to conform are “intended to assure that these Rules are not overly burdensome and Federal agencies would not spend undue time assessing actions that have little or no impact on air quality.” ⁶ Furthermore, the EPA states that “Federal actions which are de minimis should not be required by this Rule to make an applicability analysis.” ⁷ To achieve this end, the General Conformity Rule allows individual Federal agencies to present categories of activities that have been documented to have de minimis emissions, and therefore could be presumed to conform under 40 CFR 93.153(f).

⁶ 58 FR 63228 (Nov. 30, 1993).

⁷ 58 FR 63229 (Nov. 30, 1993).

To identify actions that are presumed to conform, Federal agencies must meet the following criteria from the General Conformity regulations:

(1) Clearly demonstrate that the total of direct and indirect emissions of the criteria pollutants or precursor pollutants from the type of activities that would be presumed to conform would not:

(i) Cause or contribute to any new violation of any standard in any area;

(ii) Interfere with provisions in the applicable SIP for maintaining any standard;

(iii) Increase the frequency or severity of any existing violation of any standard in any area; or

(iv) Delay timely attainment of any standard or any required interim emission reductions or other milestones in any area including emission levels specified in the applicable SIP; ⁸ or

⁸ 40 CFR 93.153(g)(1).

(2) Provide documentation that emissions from the types of actions that would be presumed to conform are below the applicable thresholds established in 40 CFR 93.153(b)(1) and (b)(2).⁹ This documentation may be based on similar actions that the agency has taken over recent years.¹⁰

⁹ 40 CFR 93.153(g)(2).

¹⁰ Ibid.

Besides documenting the basis for presuming that the activities would conform, Federal agencies must fulfill procedural requirements under the General Conformity Rule by publishing the list of activities that are presumed to conform in the Federal Register; notifying Federal, State, and local agencies that the list is available; providing opportunity for public comment; and making available the agency's responses to any public comments.¹¹

¹¹ 40 CFR 93.153(h).

The BLM has developed a draft list of activities that are Presumed to Conform to Wyoming's SIP for the Upper Green River Basin (UGRB) ozone nonattainment area. Wyoming's UGRB was designated by EPA as an ozone nonattainment area with a marginal classification on April 30, 2012. A nonattainment area is any area that does not meet the national primary or secondary ambient air quality standard for the specified pollutant. Ozone nonattainment designations are classified based on the severity of the nonattainment. A marginal designation is the lowest, or least severe, classification. As a result of the nonattainment designation, the BLM must comply with the General Conformity regulations in 40 CFR 93 Subpart B (which have subsequently been incorporated by the State of Wyoming in Chapter 8, Section 3 of the Wyoming Air Quality Standards and Regulations (WAQSR)) before authorizing or approving any Federal action undertaken within the designated nonattainment area.

As noted, the BLM must demonstrate conformity by completing a conformity analysis, and cannot approve any action that would cause or contribute to a new violation of the applicable NAAQS or increase the frequency or severity of any existing violation. With respect to ozone in the UGRB, the presumed to conform analysis is completed by ensuring that emissions of volatile organic compounds (VOCs) and nitrogen oxides (NOX), the precursor pollutants that form ground level ozone, are below the de minimis emission thresholds specified in the regulations for marginal nonattainment areas. The de minimis emission thresholds identified in 40 CFR 93.153(b)(1) and (b)(2) for a marginal ozone nonattainment are 100 tons/year of VOCs and 100 tons/year of NOX). Federal actions and activities that demonstrate total direct and indirect emissions below the de minimis emission thresholds can be presumed to conform to the regulations and authorized without further analysis. Actions that exceed the de minimis emission thresholds require further evaluation and a conformity determination.

In this Notice, the BLM is identifying a list of de minimis actions and activities that are presumed to conform. This Notice contains a summary of documentation and analysis that demonstrates that the actions described will not exceed the applicable emission levels for the UGRB ozone nonattainment area. The actions involve BLM approval and/or financial assistance for projects or agency activities within the UGRB in Wyoming. Adoption of the list would reduce agency costs and time associated with conducting individualized evaluations of actions that have minimal emissions. Once the list is finalized, the BLM will be able to improve its environmental review process by streamlining review of actions with minimal impacts and applying more resources to actions that have the potential to reach regulated emission levels or adversely impact air quality.

This draft list identifies two categories of actions: (1) Actions that are presumed to conform to the SIP for the UGRB area because they are projected to result in emissions lower than the established de minimis thresholds; and (2) actions that are entirely exempt from the General Conformity Rule, under 40 CFR 93.153(c)(2), because they fall within broad categories of exempt actions—as defined by EPA—that result in no emissions increase, associated increases in emissions that are already covered by the SIP, or emissions increases that are clearly de minimis.

Notification Process for the BLM UGRB Presumed To Conform List

The notification requirements in the General Conformity Rule are as follows: ¹²

¹² 40 CFR 93.153(h)(1-4).

(1) The Federal agency must publish in the Federal Register its draft list of activities that are presumed to conform and the basis for the presumptions;

(2) The Federal agency must notify the appropriate EPA Regional Office(s), state and local air quality agencies and, where applicable, the agency designated under section 174 of the Clean Air Act and the relevant metropolitan planning organization, and provide at least 30 days for the public to comment on the list of proposed activities presumed to conform;

(3) The Federal agency must document its response to all the comments received and make the comments, responses, and final list of activities available to the public upon request; and

(4) The Federal agency must publish the final list of activities presumed to conform in the Federal Register.

The BLM is initiating its notification requirements by publishing this Draft Presumed to Conform List. The public may obtain further program information or review project documentation by contacting the office and person listed under FOR FURTHER INFORMATION CONTACT.

The major sections of this document follow:

I. Background

II. Existing Exemptions

III. BLM UGRB Presumed To Conform List and Technical Justifications

IV. How To Apply Presumed To Conform Actions

I. Background

General conformity refers to the process of demonstrating that a Federal action conforms to the applicable SIP. A general conformity determination is required for each pollutant identified as nonattainment or maintenance in a particular area, when the total of direct and indirect emissions caused by a Federal action equals or exceeds any of the applicable thresholds.¹³ In cases where emissions equal or exceed the applicable thresholds, the Federal agency must complete additional evaluation to demonstrate how the action will conform to the SIP and meet General Conformity requirements. However, for actions where the emissions are below the applicable thresholds, an applicability analysis is used to demonstrate that the emissions are below the thresholds and are considered de minimis. No further evaluation or demonstration of conformity is required if this is the case.

¹³ 40 CFR 93.153(b).

The procedure for assessing conformity depends on whether the relevant action is classified as a Federal “transportation” action or a “general” Federal action. A Federal transportation action is an action related to transportation plans, programs, and projects that are developed, funded, or approved under Title 23 United States Code (U.S.C.) or the Federal Transit Act (FTA).¹⁴ A general Federal action is defined as any Federal action that is not a transportation action and consequently not subject to the conformity requirements established for Federal highway or transit actions, referred to as “transportation conformity.” Since the BLM actions described in this Notice do not meet the definition of a transportation action, they are general actions by default, and thus subject to the General Conformity Rule.

¹⁴ 49 U.S.C. 1601 et seq.

The BLM and other Federal agencies subject to general conformity must make a determination, prior to taking or authorizing any Federal action, that the action conforms to the applicable SIP's purpose to meet and maintain the NAAQS. If the actions are not specifically exempt, covered under an existing SIP, or classified as presumed to conform, the BLM or other agency must complete an emissions inventory as part of the applicability analysis to determine if emissions are likely to equal or exceed the established de minimis emission thresholds allowed for the nonattainment area. Administering and enforcing conformity regulations are delegated by the EPA to the individual states through provisions in each SIP. When a nonattainment area achieves compliance with the NAAQS, it becomes a maintenance area for at least 10 years, with ongoing state responsibility to ensure continued attainment.¹⁵

¹⁵ Clean Air Act, Section 175A, 42 U.S.C. 7505a.

Under the General Conformity Rule (40 CFR 93.153(g) and (h)), Federal agencies may develop a list of actions that are presumed to conform to relevant SIPs. As noted, the process of establishing presumed to conform classifications is predicated on ensuring that an activity that is presumed to conform does not cause or contribute to any new violations of the NAAQS, exacerbate existing violations, or interfere with provisions contained in the applicable SIP.

II. Existing Exemptions

To provide the proper context and baseline for identifying and proposing a list of presumed to conform Federal actions for the UGRB, the BLM must first consider whether any individual actions and activities already qualify for exemption from general conformity requirements. The EPA has defined broad categories of exempt actions under 40 CFR 93.153. Actions in these categories result in no emissions increase, emissions increases that are already covered by the SIP, or emissions increases that are clearly de minimis. These exempt actions are not subject to further analysis for applicability, conformity, or regional significance under the General Conformity Rule. Further, activities that qualify for exemptions from the conformity analysis under 40 CFR 93.153 are not subject to the same public review and notification requirements as those activities that the BLM has listed as presumed to conform. Nevertheless, in this Federal Register Notice, the BLM is identifying those activities occurring in the UGRB ozone nonattainment area that are exempt from the conformity requirements on the basis that associated emissions are de minimis. (The complete list of activities identified by the BLM as being exempt from the conformity regulation is available at: http://bit.ly/WYPtCList.)

A. Continuing and Recurring Activity (40 CFR 93.153(c)(2)(ii))

The BLM regularly conducts activities in support of its management of public lands in the UGRB, including but not limited to: (1) Archaeological surveys; (2) issuing grazing permits; (3) weed control on public lands; (4) resource surveys for visual resources, wildlife, etc.; and (5) collecting transportation data. These activities may involve short-term and infrequent vehicle use by employees to travel into the field. The BLM has determined that any air emissions associated with the corresponding vehicle use are de minimis, and therefore these activities are exempt from general conformity requirements.

B. Routine Maintenance and Repair Activities (40 CFR 93.153(c)(2)(iv))

BLM activities in the UGRB also involve actions that qualify as routine operations and maintenance under the General Conformity Rule. Examples of such activities include, but are not limited to: (1) Maintaining air quality monitoring equipment operated by the BLM; (2) managing solid waste collected at public use areas such as at campgrounds, picnic grounds, etc.; (3) maintaining BLM-managed lands such as cleaning cattle-guards, and windmill/fence repair; and (4) performing routine maintenance of trails, campgrounds, and other recreational sites managed by the BLM. These activities typically involve short-term and infrequent vehicle use by employees to travel into the field, and may at times also include short-term use of heavy equipment. Due to the short-term and infrequent nature of such activities, the BLM has determined that any air emissions associated with the corresponding vehicle and/or equipment use are de minimis, and therefore these activities are exempt from general conformity requirements.

It should be noted that activities that involve extensive construction and/or earthmoving are not considered routine and do not qualify under the exemption described above. However, some construction activities associated with specific projects may qualify as presumed to conform under this Draft Presumed to Conform List, depending on the level of the associated emissions.

C. Regulatory Monitoring and Inspections (40 CFR 93.153(c)(2)(v))

The BLM inspects and monitors compliance of regulated activities under its jurisdiction within the UGRB. These inspection and monitoring activities include, but are not limited to: (1) Monitoring and assessing cultural resources; (2) identifying and monitoring solid waste and/or hazardous waste sites; (3) inspecting, monitoring and assessing range, forests and other lands; (4) conducting field inspections of oil and gas operations, sand and gravel operations, and similar activities where the BLM has issued authorizations for resource development; (5) monitoring and assessing recreational activities such as off-road vehicle use; and (6) monitoring wildlife and wild horse populations on BLM-managed lands. These activities may at times involve short-term and infrequent vehicle use by employees to travel into the field. The BLM has determined that due to the short-term and infrequent nature of such activities, any air emissions associated with the corresponding vehicle use are de minimis, and therefore these activities are exempt from general conformity requirements.

D. Administrative Actions (40 CFR 93.153(c)(2)(vi))

The BLM issues permits and conducts other administrative actions as part of its land management activities. Examples of such permits include, but are not limited to: Forest permits, recreation permits, small group tours, and meetings. The administrative actions of the BLM generally do not involve activities that would produce air emissions, but they may at times include short-term and infrequent vehicle use by employees. The BLM has determined that any air emissions associated with the corresponding short-term and infrequent vehicle use are de minimis, and therefore these permitting activities are exempt from general conformity requirements.

Note that the various activities permitted by the BLM may not be exempt in their own right; the exemption described above only applies to the administrative processing of these actions. If a particular activity subject to a BLM permit or other approval is reasonably foreseeable and has quantifiable air emissions, then the specified activity will need to undergo the appropriate conformity review before the BLM issues the required permit or approval. Some related activities may be included on the BLM UGRB Presumed to Conform List.

E. Debris Removal (40 CFR 93.153(c)(2)(ix))

Activities involving debris removal from BLM-managed lands are exempt from conformity. This includes events where individuals and/or groups pick up litter and other debris at campgrounds, trails, etc. These activities are expected to involve short-term and infrequent vehicle use; however, the BLM has determined that any air emissions associated with the corresponding vehicle use are de minimis.

F. Emissions Not Reasonably Foreseeable (40 CFR 93.153(d)(3))

In some cases, BLM activities in the UGRB that do not themselves produce significant emissions may be expected to lead to future air emissions. In many cases, however, the emissions are not reasonably foreseeable or quantifiable at the time of the action. One example is offering for lease a tract or parcel of land or holding a mineral lease sale. The sale itself is an administrative action that does not authorize development or the approval of emission generating activities. However, it is recognized that the sale could result in air emissions at the time development occurs. Since the associated emissions are largely dependent on the specifics of the development proposal, which is unknown at the time of the lease offering, the emissions are not reasonably foreseeable or quantifiable at the leasing stage. However, any resource development that is proposed following the lease sale would trigger additional National Environmental Policy Act (NEPA) analysis, and the development in question would be subject to conformity requirements at that time.

G. Clean Air Act Permitted Sources (40 CFR 93.153(d)(1))

Some activities within the UGRB are subject to multiple regulatory approvals. One example is air emission units that are subject to the State of Wyoming air quality permit program administered by the Wyoming Department of Environmental Quality (WDEQ). Any regulated emissions source that receives an air quality permit through the WDEQ's New Source Review (NSR) permitting program is exempt from inclusion in the BLM's conformity analysis per 40 CFR 93.153(d)(1) and the Wyoming Air Quality Standards and Regulations, Chapter 8, Section 3.

H. Emergency Response (40 CFR 93.153(d)(2))

The BLM may at times need to provide for emergency response when incidents occur on BLM-managed lands. Examples include responding to wildfires, spills associated with oil and gas operations, or other hazardous material incidents. While such activities may include significant air emissions associated with the event itself and/or with the response, these activities are exempt because the associated emissions are not reasonably foreseeable, nor are they quantifiable. Also, the analysis involved in assessing compliance with the general conformity requirements is not generally consistent with emergencies, which require an immediate response so as not to create and/or exacerbate a public safety or other environmental hazard.

I. Research (40 CFR 93.153(d)(3))

BLM-sponsored research is also exempt from a conformity analysis. Within the UGRB, a primary BLM research activity is installing and operating air quality monitoring equipment and water quality monitoring activities. These activities may involve short-term and infrequent vehicle use by the BLM and/or its contractors. The BLM has determined that any emissions associated with vehicle use for these activities are de minimis, and therefore these activities are exempt from general conformity requirements.

J. Prescribed Fire (40 CFR 93.153(i)(2))

The BLM's land management in the UGRB may at times include the use of prescribed fire. Prescribed fire activities are exempt from conformity to the extent that the BLM conducts them according to the WDEQ's approved Prescribed Burn Management Program. Prescribed burns require a permit from the WDEQ prior to being conducted. For the purpose of conformity, any air emissions associated with prescribed fire within the confines of an approved management plan have already been incorporated into the Wyoming SIP and are exempt from the BLM conformity analysis.

III. BLM UGRB Presumed To Conform List and Technical Justification

The BLM UGRB Presumed to Conform List addresses projects proposed in the UGRB ozone nonattainment area. Conformity requires that any such project demonstrate that emissions would be less than the threshold levels given in 40 CFR 93.153(b)(1) and Chapter 8, Section 3 of the Wyoming Air Quality Standards and Regulations (WAQSR)—that is, 100 tpy for either NOX or VOCs, the precursor pollutants that form ozone in the atmosphere. Projects on the Presumed to Conform List would be considered to conform and would not be required to develop project-specific emission inventories to demonstrate compliance. To develop the list, the BLM quantified project emissions based on similar actions undertaken, approved, or permitted by the BLM over recent years within the UGRB. The BLM recognizes that any individual project subject to BLM authorization may include multiple component activities. For any project with multiple component activities, the emissions for each pollutant need to be summed across all project-related activities to determine conformity. The project conforms if the summed NOX and VOC emissions are less than 100 tpy for each pollutant. General Conformity for large scale oil and gas development projects that are being evaluated through an EIS will not be determined using the Presumed to Conform List. Such projects are required to submit comprehensive, detailed emission inventories for the life of the project in order to evaluate the year of maximum emissions for General Conformity compliance.

The BLM has developed the Presumed to Conform List using emissions data from a variety of sources. For operations proposed by the oil and gas industry, data were compiled from emissions information used in current and past actions. The total emissions for development and operation were summed over the expected emission sources at the project and expressed in terms of three units: Emissions per well, per road-mile, or per pipeline-mile. The emissions data were compiled in a calculation workbook and, by using this workbook, the number of such units that could be developed in a single year without emissions exceeding the conformity thresholds was calculated. For example, if developing one well is, on average, associated with emissions of nine tons of NOX or VOC per well, then projects with up to 11 wells in a single year would be presumed to conform, (since 9 tpy*11wells = 99 tpy, which is less than the100 tpy de minimis threshold for each pollutant). Note that this example assumes the project has no additional reasonably foreseeable or quantifiable direct or indirect emissions.

Emission sources and associated activity levels were solicited from UGRB oil and gas operators for well development and operations, including associated infrastructure such as roads and pipelines. Several datasets were received and reviewed for quality control purposes. In order to maintain confidentiality of the operators, these datasets are referred to as Scenario A, Scenario B, etc. in the calculation workbook. Emissions data from the scenarios were grouped according to typical major phases of development: Construction, drilling, completion, operations/workovers, and reclamation. Within each phase, the scenario data that showed the maximum emissions per unit of development was selected. These data were then combined to form a composite scenario that represents a maximum emissions case for the activity. The composite scenario is the basis for the presumed to conform emissions estimate. Use of this composite maximum emissions case assures that the presumed to conform criteria are set conservatively—that is, this approach ensures that the estimates of emissions associated with particular levels of development overstate the actual emissions that are expected fromthe activity, and therefore the total annual emissions from the specified activities will be less than the conformity thresholds.

The following table lists the items where BLM has determined that emissions are presumed to conform. Additional discussion of each activity that is presumed to conform is presented below the table. The supporting technical calculations and workbooks for all activities included on the BLM UGRB Presumed to Conform List can be found at: http://bit.ly/WYPtCList. In many cases, the table lists emissions associated with particular activities on a per-unit basis (e.g. per well, or per mile, or per facility). For these activities, to assess whether a larger project can be presumed to conform, the number of units in the project must be multiplied by the expected per-unit emissions to determine whether the overall emissions from the project is expected to be less than the thresholds of 100 tpy NOX and 100 tpy VOCs. For example, in the oil and gas full development scenario in the table, the emissions are estimated at 7.0 tpy of NOX per well, and 0.4 tpy of VOCs per well; full development of up to 14 wells in a single 12-month period could therefore be presumed to conform, because 14 × 7.0 is 98 tpy NOX, under the de minimis threshold of 100 tpy.

In other cases, the table lists emissions associated with overall activities, such as emissions associated with any amount of cultural resource excavation. In these cases, the total emissions for the overall activity are so low that any amount of the activity can be presumed to conform; no per-unit analysis is necessary.

Table 1—Presumed To Conform Activities
BLM resource area | Description of activity | Emissions: NOX (ton/yr) | Emissions: VOC (ton/yr) | Comments
Cultural Resources | Data recovery/site excavation. Excavation usually related to well pad construction | <0.1 | <0.1 | Based on one passenger vehicle traveling up to 200 miles per day for 60 days.
Activities Associated with Land Use Permits, such as Rights-of-Way (ROW) | Install powerlines/transmission lines Install roads (non-oil and gas) | 0.44 tons/mile 1.61 tons/mile | 0.032 tons/mile 0.13 tons/mile | Calculated per mile of transmission or distribution line, based on emissions for a 24-mile project. Calculated per mile of road.
| Install communications tower/facility | 1.5 per tower | 0.2 per tower | Estimated for South Rim Communications Tower (one tower).
| Construct natural gas support facility | 0.45 tons/facility | 0.1 tons/facility | Calculated for a single support facility, based on data for Facility Construction in supporting Oil and Gas Workbook. Conformity for a project would be based on the number of facilities. For example, construction of up to 222 facilities in a single 12-month period would conform.
Oil and Gas—Emissions are for a Single Well | Full development scenario; includes drilling well, pad and facility construction (including road construction, pipeline construction, and electric line construction (oil well only)), well completion, production/workover/operations, and reclamation | 7.0 tons/well | 0.4 tons/well | Oil wells—Calculated for a single well using the maximum emissions for local development areas. Conformity for a project would be based on the number of wells. For example, full development for up to 14 wells in a single 12-month period would conform.
|  | 4.0 tons/well | 0.5 tons/well | Natural gas wells—Calculated for a single well using the maximum emissions for local development areas. Conformity for a project would be based on the number of wells. For example, full development for up to 24 wells in a single 12-month period would conform.
Oil and Gas—Emissions are for a Single Well | New well on existing pad scenario; excludes pad, facility, and pipeline construction | 5.6 tons/well | 0.3 tons/well | Oil wells—Calculated for a single well using the maximum emissions for local development areas. Conformity for a project would be based on the number of wells. For example, up to 17 new wells in a single 12-month period on an existing pad would conform.
|  | 2.6 tons/well | 0.3 tons/well | Natural gas wells—Calculated for a single well using the maximum emissions for local development areas. Conformity for a project would be based on the number of wells. For example, up to 38 new wells in a single 12-month period on an existing pad would conform.
| Existing well scenario; production/workover/operations only | <0.1 tons/well | <0.1 tons/well | Oil wells—Calculated for a single well using the maximum emissions for local development areas. Conformity for a project would be based on the number of wells. For example, redevelopment of up to 1,287 existing wells in a single 12-month period would conform.
|  | <0.1 tons/well | <0.1 tons/well | Natural gas wells—Calculated for a single well using the maximum emissions for local development areas. Conformity for a project would be based on the number of wells. For example, redevelopment of up to 1,207 existing wells in a single 12-month period would conform.
Oil and Gas | Install pipelines | 1.24 tons/mile | 0.136 tons/mile | Based on maximum development of 79 miles for natural gas pipeline, 20 to 30 inches diameter. Conformity for a project would be based on the number of miles of pipeline constructed. For example, construction of up to 80 miles of pipeline in a single 12-month period would conform.
Other Minerals | Sand and gravel operations (includes stripping, digging, crushing and hauling) | 4.0 | 0.3 | Based on 20,000 cubic yards of sand/gravel extraction over a 3-5 year contract period. Hauling based on 160,000 miles/yr (20 trips per day @ 200 miles round-trip for two 20-day operations per year).
Range | Drilling water well | 0.53 | 0.02 | Calculated for a single water well based on emissions estimates for Cabrito 3-31 Water Well.,
| Converting windmills to solar energy | <0.1 | <0.1 | Calculated for a single conversion project. Infrequent—Minor construction (no heavy duty vehicles; based on single day of pickup use).
Recreation | Construct recreation facilities (i.e., campgrounds) | 0.7 | 0.1 | Calculated for construction of a single facility, based on Sand Dunes recreation improvement project, Wind River Front reconstruction project, general annual maintenance, etc.
| River access sites | 1.5 | 0.2 | Calculated for construction of a single site, based on projects constructing multi-vehicle boat ramps, including pre-work design/survey, road, ramp, and parking lot construction, installation of visitor facilities (restrooms, kiosks, barricades, fencing, etc.).
| Special Use Permits, e.g., commercial hunting and fishing guides | 0.1 | <0.1 | Calculated for a single issued permit, assuming 1 passenger vehicle traveling up to 200 miles round trip for 250 trips per year.
| Trail construction | <0.1 | <0.1 | Calculated for a single construction project up to 5 days in duration. Assumes primarily hand construction and one tractor or backhoe operating for 5 days.
Wild Horses | Gather wild horses | <0.1 | <0.1 | Calculated for a single gather, based on helicopter use (Bell 206 JetRanger) for one week period.
Wildlife | Habitat improvement projects (includes selecting and designating sites, planning, and implementation) | 1.9 | 0.2 | Calculated for a single project, based on Wyoming Range Mule Deer Habitat Project EA.
| Wildlife survey (aircraft) | 0.1 | <0.1 | Calculated and based on a single survey with twin engine aircraft use (Beech King Air) for one week period.
Misc. Activities | Road maintenance and upkeep | 9.7 | 0.7 | Infrequent and short-term vehicle use, minor heavy duty equipment. Based on grader and diesel pickup use to maintain 40,000 miles of road annually. Not applicable to initial road construction.

For pollutant emissions presented in the above table for oil and gas industry sources, the following key assumptions are applicable and can also be further reviewed in the supporting Oil and Gas Workbook (included with the supporting emission calculations) located at: http://bit.ly/WYPtCList:

• EPA regulates the emissions from mobile sources by setting standards for the specific pollutants being emitted. EPA established progressively more stringent emission standards for carbon monoxide, hydrocarbons, nitrogen oxides, and particulate matter in the early 1990s for non-road engines and equipment. Emissions standards set limits on the amount of pollution a vehicle or engine can emit. A higher tier standard corresponds to lower emissions. Emissions shown on the list assume non-road equipment/engines meet either EPA Tier 2 or a mix of Tier 1 and Tier 2 emission standards. In order to determine emissions for a project using entirely Tier 1 non-road equipment/engines, the comparison panels in the supporting Oil and Gas Workbook must be used.

• For projects using Tier 3 or better non-road equipment/engines, a higher number of wells may conform, but the supporting Oil and Gas Workbook must be used to adjust the single well emission values.

• For projects using drill rigs permitted through the WDEQ, New Source Review (NSR) permitting program, a higher number of wells may conform since NSR-permitted sources are excluded from the BLM's General conformity analysis. The supporting Oil and Gas Workbook can be used to adjust the single well emission values by excluding permitted drill rig emissions.

• Emissions data for on-road vehicles correspond to calendar years 2008 to 2013, depending on the operator, and so are expected to be conservative (overestimate emissions) for 2014 and later years. Emissions data were previously generated using EPA's Motor Vehicle Emission Simulator (MOVES) modeling system which estimates emissions for mobile sources at the national, county, and project level for criteria air pollutants, greenhouse gases, and air toxics. Emissions data for off-road vehicles, such as construction equipment, were previously generated using EPA's NONROAD Model.

• The ton per year (tpy) emissions presented for a single well are rounded to one decimal place; however, the number of wells noted as conforming in the comments are based on more precise emissions that can be found in the supporting Oil and Gas Workbook.

Further explanation of the Presumed to Conform activities identified in the table is provided below in the order in which they appear in the table.

1. Cultural Resources: Data Recovery/Site Excavation

Cultural resource evaluations may occur during site excavation, whether connected to oil and gas development or to other BLM projects. These activities are expected to result in de minimis emissions associated with infrequent and short-term light-duty vehicle use for personnel to travel to the project site. Calculations were based on one passenger vehicle traveling up to 200 miles per day for 60 days. Emissions for NOX and VOC have each been calculated to be less than 0.1 ton per year. Since the emissions for this activity are de minimis, no extrapolation of the number of cultural site excavations that could occur in a single year is provided; this activity is not a daily activity and would never approach the emissions threshold. These activities are de minimis and presumed to conform.

2. Lands: Install Power/Transmission Lines

Due to the remote location of many oil and gas development projects in the UGRB, electrical power is not available at the project site and electrical transmission or distribution lines may be installed in order to bring power to the project site. Constructing these transmission or distribution lines results in NOX and VOC emissions associated with construction equipment activities. Based on an actual 24-mile transmission or distribution line, construction assumes standard construction equipment including light-duty and heavy-duty trucks, along with a backhoe and forklift, operating 12 hours per day. The calculated emissions are 0.44 tpy of NOX and 0.032 tpy of VOCs per mile. By extrapolation, any transmission or distribution line construction project up to 225 miles in a 12-month period could be developed without exceeding the emissions threshold. These activities are de minimis and presumed to conform.

3. Lands: Install Roads (Non-Oil and Gas)

New road construction may be undertaken or authorized by the BLM to create access to previously inaccessible locations. Emissions would be associated with the construction equipment needed to build the access road, such as backhoes, bulldozers, tractor scrapers, and motor graders, operating 12 hours per day. Based on 2009 Sublette County emission factors from EPA's NONROAD emissions model, the calculated emissions are 1.61 tpy of NOX and 0.13 tpy of VOCs per mile. Accordingly, any access road construction project up to about 61 miles in a 12-month period could be developed without exceeding the emissions threshold. This activity is de minimis and presumed to conform.

4. Lands: Install Communication Tower/Facility

The BLM may authorize construction of communication towers and ancillary facilities on Federal lands within the UGRB in order to improve cellular telephone and other communications in the region. Estimated emissions are associated with the construction equipment for installing a single tower, based on construction of the South Rim Communications Tower, including light and heavy-duty trucks, backhoes, cranes and a truck drill rig, operating 10 hours per day. Off-road vehicles assumed 2008 Sublette County NONROAD emission factors and on-road vehicles assumed 2013 emission factors from EPA's MOVES model. The calculated emissions are 1.5 tpy of NOX and 0.2 tpy of VOCs. By extrapolation, up to 66 towers could be constructed in a single 12-month period without exceeding the emissions threshold. This activity is de minimis and presumed to conform.

5. Oil and Gas: Full Development Scenario

Developing an oil and gas well involves many different activities, including well pad construction, well drilling, completion workovers and construction of on-site facilities and associated roads and pipelines. Emissions were calculated for these activities assuming full development for a single well using a maximum development scenario for the UGRB. Separate calculations were performed for oil wells and natural gas wells.

For a single oil well, the calculation assumes a drill rig and boiler with drilling activities lasting 15 days for 24 hours per day (hr/day). Construction is assumed to last 3 days at 10 hr/day and involve standard construction equipment such as dozers, backhoes, motor graders, dump trucks, and water tankers. Completion activities involve a pump engine operating for 5 days and a rig engine operating for 1 day, at 12 hr/day. Workovers are assumed to involve one rig engine operating for 5 days at 12 hr/day. Off-road equipment is assumed to meet EPA Tier 2 emissions standards. On-road vehicles would consist of light and heavy-duty trucks. Equipment and vehicle emissions are calculated for 2013.

For a single oil well, the calculated emissions are 7.0 tpy of NOX and 0.4 tpy of VOCs. By extrapolation, up to 14 oil wells could be developed for a project in a 12-month period without exceeding the emissions threshold.

For a single natural gas well, the calculation assumes a drill rig and boiler, with a drilling duration of 10 days at 24 hours per day. Construction is assumed to last 15 days. Completion is assumed to involve a pump engine operating for 5 days and a rig engine operating for 1 day at 12 hr/day. Workovers are assumed to involve two engines operating for 2 days at 8 hr/day. Off-road equipment is assumed to meet EPA Tier 2 emissions standards. On-road vehicles would consist of light and heavy trucks. Equipment and vehicle emissions are calculated for 2008. For a single natural gas well, the calculated emissions are 4.0 tpy of NOX and 0.5 tpy of VOCs. By extrapolation, up to 24 natural gas wells could be developed for a project in a 12-month period without exceeding the emissions threshold.

Each of these activities are de minimis and presumed to conform.

6. Oil and Gas: New Well on an Existing Pad

For a new oil or natural gas well on an existing pad, the emissions are the same as described above except that construction emissions are excluded (since the associated facilities already exist). The assumptions and data used for equipment and vehicles in this calculation are the same as for the Full Development Scenario (number 5 above).

For a single oil well drilled on an existing pad, the calculated emissions are 5.6 tpy of NOX and 0.3 tpy of VOCs. By extrapolation, up to 17 oil wells on an existing pad could be developed in a 12-month period without exceeding the emissions threshold.

For a single natural gas well drilled on an existing pad, the calculated emissions are 2.6 tpy of NOX and 0.3 tpy of VOCs. By extrapolation, up to 38 natural gas wells could be developed on an existing pad in a 12-month period without exceeding the emissions threshold. These activities are de minimis and presumed to conform.

7. Oil and Gas: Production/Workover/Operations Only

Once a well is drilled and producing, production-related maintenance activities such as workovers typically occur annually and generate emissions that may not be included in the well site's production permit. Workovers typically require the short-term use of diesel-fired engines associated with the workover rig itself. Also, there are typically traffic-related emissions from workers travelling to the site.

For a single oil or natural gas well, the calculation for workovers assumes a single engine operating for 5 days at 12 hr/day. Off-road equipment is assumed to meet EPA Tier 2 emissions standards. On-road vehicles would consist of light and heavy trucks. Equipment and vehicle emissions are calculated for 2013.

For a single oil well and a single natural gas well, the calculated emissions associated with production maintenance activities are less than 0.1 tpy for both NOX and VOCs. By extrapolation, up to 1,287 oil wells and 1,207 natural gas wells could be maintained in a 12-month period without exceeding the emissions threshold. Each of these activities are de minimis and presumed to conform.

8. Oil and Gas: Install Pipelines

Once an oil or gas well is developed, pipelines are often constructed to transport the recovered oil, condensate, gas and water. Emissions result from the construction equipment used for pipeline projects. For a 79-mile pipeline (up to 30-inch diameter pipe) the calculation assumes that construction proceeds at the rate of 1 to 4 days per mile, depending on the phase of work. Up to 8 pieces of equipment are assumed to be operating simultaneously (up to 20 for welding). Equipment is assumed to operate for 12 hr/day and includes standard construction equipment such as excavators, dozers, backhoes, motor graders, sidebooms, and cranes. Additional equipment includes welders and x-ray trucks. Vehicles include light-duty trucks, heavy-duty trucks, and water tankers. Off-road equipment is assumed to consist of 50% meeting EPA Tier 1 and 50% meeting Tier 2 emissions standards. Equipment and vehicle emissions are calculated for 2008.

For a 79-mile pipeline (up to 30-inch diameter pipe), the calculated emissions are 98.3 tpy of NOX and 10.7 tpy of VOCs. The average emissions per mile of pipeline are 1.24 tons/mile of NOX and 0.136 tons/mile of VOCs. By extrapolation, any pipeline construction project up to about 80 miles in a 12-month period could be developed without exceeding the emissions threshold. This activity is de minimis and presumed to conform.

9. Other Minerals: Sand and Gravel Operations

The BLM issues contracts and authorizations for developing sand and gravel resources within the UGRB. Air emissions result from on-site heavy equipment (front loaders and bulldozers), operation of a crushing/screening plant (which generally run on diesel-fueled engines), employee/contractor traffic (light-duty vehicles), and use of heavy-duty trucks to transport the aggregate product to nearby markets. The emission calculations were based on 20,000 cubic yards of sand/gravel extraction over a 3-5 year contract period and a one-way hauling distance of 100 miles, which is the BLM's maximum projected development level.

Under the development scenario described above, the calculated emissions are 4.0 tpy of NOX and 0.3 tpy of VOCs. By extrapolation, up to 24 sand and gravel operations could occur in a single year 12-month period without exceeding the emissions threshold.

Also presumed to conform under this category are activities associated with selling and removing decorative rock. Activities associated with gathering decorative stone typically create fewer emissions than sand and gravel sites since no crushing/screening equipment is necessary. Each of these activities are de minimis and presumed to conform.

10. Range: Drilling a Water Well

Water well development occurs on BLM lands within the UGRB. Emissions are associated with the drill rig and ancillary equipment although the intensity and duration of activity for drilling water wells is significantly less than that for an oil or gas well.

Water well drilling assumes a water well drill rig, with Tier 2 engines, along with supporting light and heavy-duty trucks. A round trip distance of 70 miles was assumed for the on-road vehicles. The calculated emissions for a single water well are 0.5 tpy of NOX and 0.02 tpy of VOCs. By extrapolation, up to 186 water wells could be developed in a 12-month period without exceeding the emissions threshold. This activity is de minimis and presumed to conform.

11. Range: Converting Windmills to Solar Energy

The BLM has a program to convert existing windmills to solar energy. These activities are expected to result in de minimis emissions associated with infrequent and short-term light-duty vehicle use for personnel to travel to the project site. Emissions for NOX and VOCs have been calculated to be less than 0.1 ton per year for each conversion. Since the emissions for this activity are de minimis, no extrapolation of the number conversions that could occur in a single year is provided; this activity is infrequent and would never approach the emissions threshold. This activity is de minimis and presumed to conform.

12. Recreation: Construct Recreation Facilities, i.e., Campgrounds

The BLM may also construct recreational facilities such as campgrounds or picnic areas to enhance visitor use of recreation areas. This activity may involve construction over a small area, generally lasting up to about 15 working days. Air emissions would result from the construction equipment and work vehicles, such as front loaders, a Bobcat, a motor grader, and light-duty and heavy-duty trucks, operating 10 hours per day. Off-road vehicles assumed 2008 Sublette County NONROAD emission factors and on-road vehicles assumed MOVES 2013 emission factors.

For recreation facility construction, the calculated emissions are 0.7 tpy of NOX and 0.1 tpy of VOCs per facility. By extrapolation, up to 142 facilities could be developed in a 12-month period without exceeding the emissions threshold. This activity is de minimis and presumed to conform.

13. Recreation: River Access Sites

At river access sites within the UGRB, projects can include constructing multi-vehicle boat ramps, access roads, parking areas and visitor facilities such as restrooms, kiosks, barricades and fencing. Typical projects involve about 40 days of construction activities at the site, and associated air emissions result from construction equipment and work vehicles, including a front loader, excavator, and motor grader, along with light-duty and heavy-duty trucks, operating 10 hours per day. Off-road vehicles assumed 2008 Sublette County NONROAD emission factors and on-road vehicles assumed MOVES 2013 emission factors. For constructing river access sites, the calculated emissions are 1.5 tpy of NOX and 0.2 tpy of VOCs per access site. By extrapolation, up to 66 sites could be developed in a 12-month period without exceeding the emissions threshold. This activity is de minimis and presumed to conform.

14. Recreation: Special Use Permits

Examples of Special Use Permits issued by the BLM include commercial hunting and fishing guide permits. Emissions result from light duty vehicle traffic associated with the hunting and fishing trips. Based on 250 trips per year and 200 miles (round-trip) for each guided trip, the calculated emissions are less than 0.1 tpy each for NOX and VOCs. By extrapolation, up to 1,911 permits could be issued in a 12-month period without exceeding the emissions threshold. This activity is de minimis and presumed to conform.

15. Recreation: Trail Construction

The BLM maintains and constructs trails within the UGRB. Most trail construction involves hand equipment, but may occasionally require use of mechanized equipment such as a tractor, depending upon local site conditions. These activities are typically short-term (i.e., 5 days duration, 8 hours per day). The calculated emissions are less than 0.1 tpy each for NOX and VOCs per construction project. By extrapolation, up to 2,181 trail construction projects could occur in a 12-month period without exceeding the emissions threshold. This activity is de minimis and presumed to conform.

16. Wild Horses: Gather Wild Horses

Wild horse gathers within the UGRB typically involve the use of a helicopter, which is the primary emissions source for this activity. The calculations are based on use of a Bell 206 Jet Ranger helicopter over a five day period, with an average flight time of 6 hours each day. The calculated emissions are less than 0.1 tpy each for NOX and VOCs per gather. This activity is de minimis and presumed to conform.

17. Wildlife: Habitat Improvement Projects

The BLM conducts and/or authorizes habitat improvement projects within the UGRB. Activities for these projects typically include the use of off-road construction equipment (such as a tractor, feller buncher, and skidder) for 10 hours per day, as well as light duty vehicle use and occasional helicopter use and heavy-duty fire engines. The calculated emissions are 1.9 tpy of NOX and 0.2 tpy of VOCs, per project. By extrapolation, up to 52 projects could be completed in a 12-month period without exceeding the emissions threshold. This activity is de minimis and presumed to conform.

18. Wildlife: Wildlife Surveys (Aircraft)

The BLM conducts or participates in aerial wildlife surveys within the UGRB. Emissions are based on the use of a twin engine aircraft (e.g., Beechcraft King Air) for a 5-day week, with an average flight time of 4 hours each day. The calculated emissions are 0.1 tpy of NOX and less than 0.1 tpy of VOCs per survey. By extrapolation, up to 1,833 surveys could be conducted in a 12-month period without exceeding the emissions threshold. This activity is de minimis and presumed to conform

19. Miscellaneous: Road Maintenance and Upkeep

The BLM conducts and authorizes maintenance of existing roads within the UGRB. Air emissions result from the short-term use of heavy duty construction equipment. The calculated emissions are 9.7 tpy of NOX and 0.7 tpy of VOCs calculated for 40,000 miles per year of road maintenance activities (this is 5 times the normal amount of activity that typically occurs based on BLM-WY submitted data). This activity is de minimis and presumed to conform.

IV. How To Apply Presumed To Conform Actions

The list of qualifying project categories discussed in the preceding section is referred to as the BLM UGRB Presumed to Conform List. The analyses for BLM's presumed to conform actions are considered representative of a majority of common, recurring projects within the UGRB. However, the BLM must consider the appropriateness of applying this list to any particular project, by assessing how the proposed project compares to the presumed to conform categories of projects.¹⁶

¹⁶ The list must be used carefully because “[w]here an action otherwise presumed to conform under paragraph (f) of this section * * * does not in fact meet one of the criteria in paragraph (g)(1) of this section, that action shall not be presumed to conform and the requirements of 93.150 and 93.155 through 93.160 shall apply for the Federal action.” See 40 CFR 93.153(j).

As authorized under the Clean Air Act, the list provides an additional way for the BLM to improve its environmental program management while still ensuring that agency air quality goals and requirements are met. Use of the BLM UGRB Presumed to Conform List will reduce review times, eliminate unnecessary paperwork, clarify analytical requirements for all project actions, and ensure that the proper level of documentation is applied in each case. Moreover, the BLM UGRB Presumed to Conform List will provide a method that the BLM can use to demonstrate conformity with the Wyoming SIP. When applying the BLM UGRB Presumed to Conform List, the BLM will determine whether the project in question represents one or more single actions or a combined action. The BLM will also determine whether any combined action involves multiple connected presumed to conform actions. Below is a description of the different BLM actions and procedures.

Single Action. A single presumed to conform action is defined as a presumed to conform action that is not connected or dependent on other actions and that has independent utility.¹⁷ For such actions, no general conformity evaluation or applicability analysis is required and BLM officials may simply document that the project action is presumed to conform on the basis of this Notice and the applicable project category.

¹⁷ 40 CFR 1506.1(c)(1) and 1508.25(a), Council on Environmental Quality, Regulations for Implementing the Procedural Provisions of NEPA.

Using the Presumed to Conform List and supporting calculation workbooks for this Notice meets the major intent of EPA's rationale for developing presumed to conform activities—to reduce the analysis burden for actions that have minimal or no direct or indirect emissions. By analyzing each project category in the BLM UGRB Presumed to Conform List and reporting the findings, the BLM has shown that the resulting emissions from each single presumed to conform action will typically be below the applicable emission thresholds.

Combined Action. A combined action is defined as either: (1) Multiple presumed to conform actions that are connected to each other; or (2) one or more presumed to conform actions that are connected to one or more non-presumed to conform actions being evaluated under the environmental review requirements of NEPA. The Council on Environmental Quality defines connected actions as actions that are closely related involving, for example, interdependent parts of a larger action, dependence on a larger action for justification, or dependence on other actions taken previously or simultaneously.¹⁸

¹⁸ 40 CFR 1508.25(1).

Where there is a combined action, only one action specified on the BLM UGRB Presumed to Conform List may be excluded in calculating total direct and indirect emissions. The emissions from all the other actions that are not otherwise exempt must be calculated to determine the total emissions from the remaining actions.¹⁹ For example, the BLM may undertake a project with several connected actions that must be analyzed under NEPA. Several of those actions may individually be listed on the BLM UGRB Presumed to Conform List because those actions taken alone would typically have emissions below the threshold levels. To determine whether such a project requires a conformity determination, the BLM would exclude one presumed to conform action and then prepare an applicability analysis for the remaining actions. For example, an oil and gas operator could propose a project to install pipelines from existing well pads to a proposed new compressor station. In this example, only one proposed activity would be excluded using the Presumed to Conform List—either the pipeline installation or the construction activities for the compressor station. Emissions from the other activity would be calculated to determine if the remaining total emissions are still below the de minimis emission thresholds.

¹⁹ An allowance to this provision is discussed in the following paragraph.

The above procedures for combined actions allow the BLM to exclude the emissions from one presumed to conform action and to prepare an applicability analysis based upon the total direct and indirect emissions of the actions that are not otherwise exempt.²⁰ Thus, in a combined action, the emissions from one presumed to conform action may be excluded from the calculation of total project emissions. The process could show that either the combined action (minus the one excluded presumed to conform action) would equal or exceed the emission thresholds and thus trigger a conformity determination, or that the combined action (minus the one excluded presumed to conform action) is below the emissions thresholds, in which case no further action would be required. In making this determination, the BLM may elect to apply the calculated emissions in the BLM UGRB Presumed to Conform List to determine the total emissions where applicable. BLM officials will decide which individual presumed to conform action is excluded if more than one is present in a combined action.²¹

²⁰ Emissions from exempt actions are excluded in accordance with 40 CFR 93.152.

²¹ Requirements and allowances for combined actions are based on interagency communications with the EPA.

The BLM has determined as a matter of policy to implement the BLM UGRB Presumed to Conform List with respect to combined actions by balancing considerations about project segmentation,²² connected actions under NEPA,²³ and the permitted exclusion of emissions attributable to presumed to conform actions under the General Conformity Rule. Regarding the latter, 40 CFR 93.152 states: “The portion of emissions which are exempt or presumed to conform under Section 93.153(c), (d), (e), or (f) are not included in the total of direct and indirect emissions.” Likewise, as stated in the preamble (58 FR 63233): “The final rule requires the inclusion of the total direct and indirect emissions in the applicability and conformity determinations, except the portion of emissions which are exempt or presumed to conform.” ²⁴

²² In the preamble to the General Conformity Rule, the EPA decided not to adopt its initial proposal to permit Federal agencies to use the NEPA concept of tiering and analyze actions in a staged manner in analyzing conformity. EPA explained, among other things: “[T]iering could cause the segmentation of projects for conformity analysis, which might provide an overall inaccurate estimate of emissions. The segmentation of projects for conformity analyses when emissions are reasonably foreseeable is not permitted by this rule.” (58 FR 63240).

²³ 40 CFR 1508.7.

²⁴ The EPA gives as an example a Federal action that includes construction of a new industrial boiler project, that is exempt, and a separate office building. The emissions from the hypothetical boiler exceed de minimis levels however it is exempt and so the emissions are excluded. The emissions from the office building alone are below de minimis levels. As a result, the action as a whole does not need a conformity determination. (58 FR 63233).

The BLM will apply this definition to exclude emissions for single and multiple presumed to conform actions that are not connected to one another. BLM's procedures for combined actions offer a reasonable approach by placing a more conservative limit on the permitted exclusion of presumed to conform emissions than 40 CFR 93.152.

Documentation

Documentation requirements for combined/multiple actions are typically greater than for single actions. For some projects with combined/multiple actions, the BLM may require that proponents submit a project-specific emissions inventory in lieu of using the Presumed to Conform list. This methodology is project-specific and more refined than quantifying the project emissions using the Presumed to Conform List emission estimates.

Specifically, the methodology described above must be used if the project includes: (1) One or more presumed to conform actions that are connected to non-presumed to conform actions which are being evaluated under the environmental review requirements of NEPA; or (2) actions which are not supported by emissions quantification described elsewhere in the Notice. Consistent with the goal of reducing the analysis burden for presumed to conform actions, the BLM UGRB Presumed to Conform List may be used to document emissions for select activities in lieu of a project-specific emissions inventory if the activities are represented on the Presumed to Conform List.

Also, where the emissions in the BLM UGRB Presumed to Conform List are based on specific project assumptions that vary from the project in question, the emissions in the list may be adjusted as described in the BLM Emissions Workbook if appropriate. In other words, the BLM UGRB Presumed to Conform List may be used if the project is a single action or if it is limited to multiple presumed to conform actions that are supported in the Notice.

Brian W. Davis,
Acting State Director.

[FR Doc. 2016-31631 Filed 12-28-16; 8:45 am]

BILLING CODE 4310-22-P